DEPARTMENT OF HEALTH AND HUMAN SERVICES

Centers for Disease Control and Prevention

[Docket No. CDC-2020-0100]

Advisory Committee on Immunization Practices (ACIP); Amended Notice of Meeting

SUMMARY: Notice is hereby given of a change in the meeting of the Advisory Committee on Immunization Practices (ACIP); October 28-29, 2020, 10:00 a.m.-5:30 p.m., EDT (times subject to change), in the original Federal Register notice. The meeting, which was published in the Federal Register on September 21, 2020, Volume 85, Number 183, pages 59317-59318, is being amended and should read as follows:

DATES: The virtual meeting will be held on October 28-30, 2020, from 10:00 a.m.-5:30 p.m., EDT (times subject to change). The meeting is open to the public.

Written comments must be received on or before October 30, 2020.

ADDRESSES: For more information on ACIP please visit the ACIP website: http://www.cdc.gov/vaccines/acip/index.html.

You may submit comments, identified by Docket No. CDC-2020-0100 by any of the following methods:

• Federal eRulemaking Portal: https://www.regulations.gov. Follow the instructions for submitting comments.

• Mail: Docket No. CDC-2020-0100, c/o Attn: October ACIP Meeting, Centers for Disease Control and Prevention, 1600 Clifton Road NE, MS H24-8, Atlanta, GA 30329-4027.

Instructions: All submissions received must include the Agency name and Docket Number. All relevant comments received in conformance with the https://www.regulations.gov suitability policy will be posted without change to https://www.regulations.gov, including any personal information provided. For access to the docket to read background documents or comments received, go to https://www.regulations.gov.

FOR FURTHER INFORMATION CONTACT: Stephanie Thomas, ACIP Committee Management Specialist, Centers for Disease Control and Prevention, National Center for Immunization and Respiratory Diseases, 1600 Clifton Road NE, MS-H24-8, Atlanta, GA 30329-4027; Telephone: 404-639-8367; Email: ACIP@cdc.gov.

SUPPLEMENTARY INFORMATION: The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-22464 Filed 10-9-20; 8:45 am]

BILLING CODE 4163-18-P